DEPARTMENT OF DEFENSE

Department of Army

Draft Environmental Impact Statement and Draft Finding of No Practicable Alternative for Implementation of Area Development Plan at Davison Army Airfield, Fort Belvoir, Virginia

AGENCY: Department of Army, DoD.

ACTION: Notice of Availability.

SUMMARY: The Department of Army (Army) announces the availability of the Draft Environmental Impact Statement (EIS) for the proposed implementation of an Area Development Plan (ADP) for Davison Army Airfield (DAAF) at Fort Belvoir, Virginia. In accordance with the National Environmental Policy Act (NEPA), the Draft EIS analyzes the potential environmental impacts associated with implementing the construction, modernization, and demolition projects at DAAF recommended in the ADP (Proposed Action). A Draft Finding of No Practicable Alternative (FONPA) addressing potential impacts on floodplains and wetlands is also available for comment with the Draft EIS.

DATES: Comments must be received by September 8, 2020.

ADDRESSES: Please send written comments to: Fort Belvoir Directorate of Public Works, Environmental Division (DPW-ED), RE: DAAF ADP EIS 9430, Jackson Loop, Suite 200, Fort Belvoir, Virginia 22060-5116. Comments may also be provided via email to: usarmy.belvoir.imcom-atlantic.mbx.enrd@mail.mil

FOR FURTHER INFORMATION CONTACT: Nicola Cowen via phone at (703) 806-0054 or (703) 473-9231, during normal working business hours, Monday through Friday, 8:00 a.m. to 4:00 p.m. Further information may also be requested via email to: usarmy.belvoir.imcom-atlantic.mbx.enrd@mail.mil.

SUPPLEMENTARY INFORMATION: The Proposed Action would be implemented over an approximately 30-year time period to provide facilities and infrastructure necessary to support the ongoing and future missions of the airfield's tenants. The Proposed Action would improve the airfield's functional layout, demolish and replace aging facilities and infrastructure, and address multiple operational safety concerns along the runway. The ADP is specific to DAAF and all projects would occur entirely within its boundaries. No substantial changes in missions, air operations, or the number of aircraft and personnel at DAAF would occur under the Proposed Action.

The Draft EIS analyzes the potential environmental impacts of the Proposed Action, to implement the construction, modernization, and demolition projects recommended in the ADP. The Proposed Action would occur entirely within the 673-acre DAAF property on Fort Belvoir. Up to 24 ADP projects would be implemented in three sequential phases over the course of an approximately 30-year time period, as follows: Short-range (next 10 years), mid-range (11 to 20 years from now), and long-range (21 to 30 years from now). No substantial changes in missions, air operations, or the number of aircraft and personnel at DAAF would occur under the Proposed Action. Operational noise levels following implementation of the Proposed Action would remain similar to current conditions.

The Proposed Action includes the construction of new hangars, and administrative and operational facilities; the modernization of existing facilities; the demolition of up to 37 existing buildings and structures; and related infrastructure improvements. Demolition activities would remove a number of facilities that partially obstruct the airfield's Primary and Transitional Surfaces, which are required to be free of obstructions in accordance with Department of Defense (DoD) operational safety criteria. These facilities require temporary safety waivers to operate.

The Draft EIS assesses the direct, indirect, and cumulative potential environmental impacts associated with the Proposed Action. The Army evaluated several alternatives for the Proposed Action before selecting two alternatives for detailed analysis in the Draft EIS: The Full Implementation Alternative and the Partial Implementation Alternative. A No Action Alternative was also carried forward for analysis in the Draft EIS.

The Full Implementation Alternative would implement the complete suite of 24 projects recommended in the DAAF ADP. Up to 37 existing buildings and structures on DAAF would be demolished to remove facilities determined to be unnecessary, inadequate, or redundant. This would include the demolition of all facilities partially obstructing the airfield's Primary and Transitional Surfaces as described above. The Full Implementation Alternative would accommodate the space and functional needs of all DAAF tenants consistent with applicable DoD requirements. It would also fulfill DAAF's vision to create a safe, secure, sustainable, and consolidated aviation complex.

The Partial Implementation Alternative would implement a modified, reduced program of 15 ADP projects at DAAF. This Alternative would amount to implementing all of the short-range and most of the mid-range projects; none of the long-range projects would be implemented. A total of 24 existing buildings and structures at DAAF would be demolished, including all but two facilities within the airfield's Primary and Transitional Surfaces. These facilities would continue to operate under temporary safety waivers for the foreseeable future. The Partial Implementation Alternative would not address DAAF's tenants' requirements in full, but would substantially improve conditions.

Under the No Action Alternative, the Army would not implement the DAAF ADP; existing conditions at the airfield would continue for the foreseeable future. None of the proposed construction, modernization, demolition, and infrastructure improvement projects would occur. Facilities within the airfield's Primary and Transitional Surfaces would continue to require temporary safety waivers to operate. The No Action Alternative did not meet the screening criteria developed by the Army, but was carried forward for analysis in the Draft EIS to provide a baseline against which impacts of the Full and Partial Implementation Alternatives could be measured.

Natural resources on DAAF include those associated with Accotink Creek, a tributary of the Potomac River that traverses the northern side of the airfield property. Both the Full Implementation Alternative and Partial Implementation Alternative would impact some environmental resources at DAAF, including the 100-year floodplain, waters of the U.S. (including wetlands), and Chesapeake Bay Resource Protection Areas. Accordingly, the Army has also prepared a Draft Finding of No Practicable Alternative (FONPA) to comply with Executive Order (E.O.) 11988, Floodplain Management and E.O. 11990, Protection of Wetlands. As described in the Draft EIS, management measures would be implemented to avoid or minimize less than significant adverse impacts on these resources. The Draft EIS identifies “significant” adverse effects on waters of the U.S., including wetlands from the Full and Partial Implementation Alternatives. Adherence to applicable permitting requirements would mitigate these impacts to the extent possible.

All government agencies, special interest groups, and individuals are invited to participate in the Army's decision-making process for the subject Proposed Action. A 45-day public review period for the Draft EIS and Draft FONPA will begin on July 24, 2020. Interested parties will also be invited to attend two public telephone meetings scheduled for August 24, 2020. Due to the COVID-19 Pandemic and the need to maintain social distancing, all public meeting materials will be provided online, and the public meeting will be hosted by telephone. The meeting materials can be found at https://home.army.mil/belvoir/index.php/about/Garrison/directorate-public-works/environmental-division. There will be two public telephone calls scheduled for August 24, 2020. The phone number for both meetings is 1-877-286-5733. The 1st meeting will be from 1:00 p.m. to 3:00 p.m., and the passcode is 676543300#. The 2nd meeting will be from 6:00 p.m. to 8:00 p.m., and the passcode is 66866226#. If you cannot access the meeting materials online, please submit a request for the meeting materials to: usarmy.belvoir.imcom-atlantic.mbx.enrd@mail.mil. To submit a request by mail, please submit it to see ADDRESSES. Mail must be postmarked not later than August 10, 2020 so the meeting materials can be sent by United States Postal Service. Notification of the public telephone meeting will be announced in the local news media and on the Fort Belvoir website listed below.

An electronic copy of the Draft EIS and Draft FONPA will be made available for view or download online at: https://home.army.mil/belvoir/index.php/about/Garrison/directorate-public-works/environmental-division.

Brenda S. Bowen,
Army Federal Register Liaison Officer.

[FR Doc. 2020-16005 Filed 7-23-20; 8:45 am]

BILLING CODE 5061-AP-P